ENVIRONMENTAL PROTECTION AGENCY

[FRL-6988-9]

Agency Information Collection Activities: Submission for OMB Review; Comment Request; Soil Ingestion Research Study

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Soil Ingestion Research Study (EPA ICR Number 1965.01). The ICR describes the nature of the information collection and its expected burden and cost; where appropriate, it includes the actual data collection instrument.

DATES: Comments must be submitted on or before July 2, 2001.

ADDRESSES: Send comments, referencing EPA ICR No. 1965.01 to the following addresses: Sandy Farmer, U.S. Environmental Protection Agency, Collection Strategies Division (Mail Code 2822), 1200 Pennsylvania Avenue, NW., Washington, DC 20460; and to Office of Information and Regulatory Affairs, Office of Management and Budget (OMB), Attention: Desk Officer for EPA, 725 17th Street, NW., Washington, DC 20503.

FOR FURTHER INFORMATION CONTACT: For a copy of the ICR contact Sandy Farmer at EPA by phone at (202) 260-2740, by E-mail at farmer.sandy@epamail.epa.gov, or download off the Internet at http://www.epa.gov/icr and refer to EPA ICR No. 1965.01. For technical questions about the ICR contact Larry J. Zaragoza (703-603-8867).

SUPPLEMENTARY INFORMATION: Title: Soil Ingestion Research Study (EPA ICR No. 1965.01). This is a new collection.

Abstract: This ICR supports research to examine the amount of soil ingested. Soil is ingested in two ways, incidental ingestion from everyday hand to mouth activity and ingestion resulting from inhaled particles of soil that are deposited in upper and middle respiratory tract and swallowed. The ingestion of soil is important because contaminated soils from a hazardous waste site poses risks to individuals exposed to contaminated soil. This research should help any environmental program concerned with contaminated soils but is specifically being sponsored by Superfund. This research will evaluate ingestion by comparing the amount of trace metals that are ingested in food with the amount of metals that are excreted, any amount in excess of the ingested trace metals is attributed to incidental soil ingestion. Because of the possibility of trace metal ingestion from a variety of sources (like food and toothpaste), a questionnaire to identify and characterize sources of trace metals that can affect daily variation in trace metals is an important part of the experimental design of these studies. About 20 study volunteers are paid and are expected to participate in this study for about two weeks. Each night the study participants would participate in a questionnaire that will later be used to help interpret daily variations in trace metals.

An agency may not conduct or sponsor, and a person is not required to respond to, a collection of information unless it displays a currently valid OMB control number. The OMB control numbers for EPA's regulations are listed in 40 CFR part 9 and 48 CFR chapter 15. The Federal Register document required under 5 CFR 1320.8(d), soliciting comments on this collection of information was published on November 21, 2000 (65 FR 69936); no written comments were received.

Burden Statement: The annual public reporting and record keeping burden for this collection of information is estimated to average 5 minutes per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: About 20 paid volunteers will be involved in responding to this collection as part of a paid research study.

Estimated Number of Respondents: 20 responses.

Frequency of Response: Daily for 2 weeks.

Estimated Total Annual Hour Burden: 20 hours.

Estimated Total Annualized Capital, O&M Cost Burden: 0.

Send comments on the Agency's need for this information, the accuracy of the provided burden estimates, and any suggested methods for minimizing respondent burden, including through the use of automated collection techniques to the addresses listed above. Please refer to EPA ICR No. 1965.01 in any correspondence.

Dated: May 21, 2001.
Oscar Morales,
Director, Collection Strategies Division.

[FR Doc. 01-13842 Filed 5-31-01; 8:45 am]

BILLING CODE 6560-50-P